DEPARTMENT OF TRANSPORTATION

Surface Transportation Board

[STB Finance Docket No. 33953]

County of Coahoma, MS—Acquisition Exemption—Line of Illinois Central Railroad Company

The County of Coahoma, Mississippi (Coahoma), a noncarrier, has filed a notice of exemption under 49 CFR 1150.31 to acquire approximately 32.46 miles of rail line known as the Swan Lake Line from Illinois Central Railroad Company (IC) extending between milepost L-74.00 at Lyon, MS, and milepost L-79.00 at Clarksdale, MS, and between milepost 104.00 at Swan Lake, MS, to the connection with the Lyon-Clarksdale line at Clarksdale near milepost 76.54. The line is currently operated by Mississippi Delta Railroad (MSD), an affiliate of Gulf & Ohio Railways, Inc. (G&O), a noncarrier.¹ In addition, Coahoma will acquire approximately 1.39 miles of incidental trackage rights over IC's line from milepost 104.00 to the connection with IC's main line at milepost 105.39 so that the operator of the Swan Lake Line can reach IC's main line and conduct interchange at Swan Lake. Coahoma certifies that its annual revenues will not exceed those that would qualify it as a Class III rail carrier and that its annual revenues are not projected to exceed $5 million.

¹ See Gulf & Ohio Railways, Inc.—Exemption Form 49 U.S.C. 11301, 10901 and 11322, Finance Docket No. 30683 (ICC served Nov. 6, 1985), wherein G&O leased a line of railroad from IC.

The transaction was expected to be consummated on or shortly after November 16, 2000.

Coahoma states that, following consummation of this transaction, MSD is expected to continue operations until July 1, 2001. Coahoma further states that, if MSD should discontinue operations, it would be replaced by another rail operator, and that it is also possible that MSD and Coahoma could reach an agreement under which MSD would continue to operate the line after July 1, 2001. According to Coahoma, it will seek the Board's approval for any authority needed in connection with MSD's discontinuance of operations or a replacement operator's commencement of operations.²

² MSD operates a contiguous rial line owned by G&O from milepost 55.40 at Lulu, MS, to milespost 74.00 at Lyon, MS, which connects to the Swan Lake Line. See Finance Docket No. 30683. G&O and Coahoma are currently negotiating the potential sale of this rail line.

If the notice contains false or misleading information, the exemption is void ab initio. Petitions to revoke the exemption under 49 U.S.C. 10502(d) may be filed at any time. The filing of a petition to revoke will not automatically stay the transaction.

An original and 10 copies of all pleadings, referring to STB Finance Docket No. 33953, must be filed with the Surface Transportation Board, Office of the Secretary, Case Control Unit, 1925 K Street, NW., Washington, DC 20423-0001. In addition, a copy of each pleading must be served on William C. Sippel, Esq., Fletcher & Sippel LLC, Two Prudential Plaza, Suite 3125, 180 North Stetson Avenue, Chicago, IL 60601-6721.

Board decisions and notices are available on our website at “WWW.STB.DOT.GOV.”

Decided: November 30, 2000.
By the Board, David M. Konschnik, Director, Office of Proceedings.
Vernon A. Williams,
Secretary.

[FR Doc. 00-31230 Filed 12-6-00; 8:45 am]

BILLING CODE 4915-00-P